Presidential Determination No. 2024-15 of September 30, 2024

Presidential Determination and Certification With Respect to the Child Soldiers Prevention Act of 2008

Memorandum for the Secretary of State

Pursuant to section 404 of the Child Soldiers Prevention Act of 2008 (22 U.S.C. 2370c-1) (CSPA), I hereby:

Determine that it is in the national interest of the United States to waive in part the application of the prohibition in section 404(a) of the CSPA with respect to Cameroon to allow for the provision of International Military Education and Training (IMET) and Peacekeeping Operations (PKO) assistance, the issuance of direct commercial sales (DCS) licenses, and support provided pursuant to 10 U.S.C. 331 and 10 U.S.C. 333, to the extent that the CSPA would restrict such assistance or support; to waive in part the application of the prohibition in section 404(a) of the CSPA with respect to Libya to allow for the provision of IMET and PKO assistance, the issuance of DCS licenses in connection with the export or reexport of transport aircraft and related parts, components, and technical data, and support provided pursuant to 10 U.S.C. 331 and 10 U.S.C. 333, to the extent that the CSPA would restrict such assistance or support; to waive in part the application of the prohibition in section 404(a) of the CSPA with respect to Somalia to allow for the provision of IMET and PKO assistance and support provided pursuant to 10 U.S.C. 331 and 10 U.S.C. 333, to the extent that the CSPA would restrict such assistance or support; to waive in part the application of the prohibition in section 404(a) of the CSPA with respect to the Democratic Republic of the Congo and Yemen to allow for the provision of IMET and PKO assistance, to the extent that the CSPA would restrict such assistance; to waive in part the application of the prohibition in section 404(a) of the CSPA with respect to the Central African Republic to allow for the provision of IMET assistance, to the extent that the CSPA would restrict such assistance; and to waive the application of the prohibition in section 404(a) of the CSPA to allow for the issuance of DCS licenses related to other United States Government assistance for the above countries and, with respect to the Russian Federation, solely for the issuance of DCS licenses in connection with the International Space Station; and

Certify that the governments of the above countries are taking effective and continuing steps to address the problem of child soldiers.

Accordingly, I hereby waive such applications of section 404(a) of the CSPA.

You are authorized and directed to submit this determination and certification to the Congress, along with the Memorandum of Justification, and to publish this determination in the Federal Register.

THE WHITE HOUSE,

Washington, September 30, 2024

[FR Doc. 2024-24323

Filed 10-17-24; 8:45 am]

Billing code 4710-10-P